DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of March 1, 2022 through March 31, 2022.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,209 | Pacific Life Insurance Company | Lynchburg, VA | 3/1/2022
98,210 | Alorica Inc | Newport News, VA | 3/2/2022
98,211 | BetaSeed, Inc/KWS Seeds | Bloomington, MN | 3/2/2022
98,212 | Pacific Life Insurance Company | Lynchburg, VA | 3/2/2022
98,213 | Boyd Corporation | Gaffney, SC | 3/4/2022
98,214 | Carisbrook Technology Services, LLC | Wilsonville, OR | 3/4/2022
98,215 | ON Semiconductor Corporation | Pocatello, ID | 3/4/2022
98,216 | HP Inc., Puerto Rico | Puerto Rico, PR | 3/7/2022
98,217 | Anointed Hands Janitorial Services LLC | Suffolk, VA | 3/8/2022
98,218 | Congoleum | Trenton, NJ | 3/9/2022
98,219 | BCS Automotive Interface Solutions LLC | Galesville, WI | 3/11/2022
98,220 | Decatur Plastic Products, Inc | Gadsden, AL | 3/11/2022
98,221 | LG Electronics USA, Inc | Huntsville, AL | 3/11/2022
98,222 | Integrated Textile Solutions | South Boston, VA | 3/14/2022
98,223 | Silipint Partners, LLC | Bend, OR | 3/14/2022
98,224 | Measurement Specialties Inc | Hampton, VA | 3/14/2022
98,225 | Xerox | Webster, NY | 3/14/2022
98,226 | Greatbatch Medical | Beaverton, OR | 3/15/2022
98,227 | Peloton Interactive, Inc | Portland, OR | 3/15/2022
98,228 | Android Industries—Belvidere | Belvidere, IL | 3/16/2022
98,229 | Permasteelisa North America | Windsor, CT | 3/16/2022
98,230 | MPT Lansing LLC, Powertrain Division | Lansing, MI | 3/21/2022
98,231 | Woodcrafters Home Products, LLC | Weslaco, TX | 3/21/2022
98,232 | Genesys | Indianapolis, IN | 3/22/2022
98,233 | Prudential Financial/Global Security | El Paso, TX | 3/22/2022
98,234 | Electrolux | Louisville, KY | 3/23/2022
98,235 | First Call Resolution | Eugene, OR | 3/23/2022
98,236 | GenOn | Springdale, PA | 3/24/2022
98,237 | Little Raymond's Print Shop | Indianapolis, IN | 3/25/2022
98,238 | PCS Ferguson (ChampionX) | Frederick, CO | 3/25/2022
98,239 | District Photo | Beltsville, MD | 3/28/2022
98,240 | Flowserve Corporation | Tulsa, OK | 3/28/2022
98,241 | My JoVe Corporation | Cambridge, MA | 3/29/2022
98,242 | Peloton Interactive, Inc | Farmingdale, NY | 3/30/2022
98,243 | Peloton Interactive, Inc | Mount Vernon, NY | 3/30/2022
98,244 | Peloton Interactive, Inc | Port Washington, NY | 3/30/2022

Reconsideration Investigations

The following are reconsideration investigations following the receipt of a properly filed application for reconsideration.

TA-W No. | Subject firm | Location | Inv start date
96,950 | Dometic Corporation | Elkhart, IN | 3/16/2022

A record of these investigations and petitions filed are available, subject to redaction, on the Department's website https://www.dol.gov/agencies/eta/tradeact under the searchable listing or by calling the Office of Trade Adjustment Assistance toll free at 888-365-6822.

Signed at Washington, DC, this 8th day of April 2022.
Hope D. Kinglock,
Certifying Officer, Office of Trade Adjustment Assistance.

[FR Doc. 2022-08307 Filed 4-18-22; 8:45 am]

BILLING CODE 4510-FN-P